DEPARTMENT OF COMMERCE

Foreign-Trade Zones Board

[B-50-2020]

Foreign-Trade Zone 87—Lake Charles, Louisiana, Application for Subzone, Lake Charles LNG Export Company, LLC, Lake Charles, Louisiana

An application has been submitted to the Foreign-Trade Zones (FTZ) Board by the Lake Charles Harbor and Terminal District, grantee of FTZ 87, requesting subzone status for the facility of Lake Charles LNG Export Company, LLC, located in Lake Charles, Louisiana. The application was submitted pursuant to the provisions of the Foreign-Trade Zones Act, as amended (19 U.S.C. 81a-81u), and the regulations of the FTZ Board (15 CFR part 400). It was formally docketed on August 5, 2020.

The proposed subzone (788 acres) is located at 8100 Big Lake Road, Lake Charles, Louisiana. Production activity was authorized on June 23, 2020 (B-12-2020, 85 FR 39163, June 30, 2020).

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is September 21, 2020. Rebuttal comments in response to material submitted during the foregoing period may be submitted during the subsequent 15-day period to October 5, 2020.

A copy of the application will be available for public inspection in the “Reading Room” section of the FTZ Board's website, which is accessible via www.trade.gov/ftz.

For further information, contact Camille Evans at Camille.Evans@trade.gov or (202) 482-2350.

Dated: August 6, 2020.
Andrew McGilvray,
Executive Secretary.

[FR Doc. 2020-17473 Filed 8-10-20; 8:45 am]

BILLING CODE 3510-DS-P